DEPARTMENT OF TRANSPORTATION

Federal Aviation Administration

Second Meeting—Special Committee 219—Attitude and Heading Reference Systems (AHRS)

AGENCY: Federal Aviation Administration (FAA), DOT.

ACTION: Notice of RTCA Special Committee 219 meeting: Attitude and Heading Reference.

SUMMARY: The FAA is issuing this notice to advise the public of a meeting of RTCA Special Committee 219 meeting: Attitude and Heading Reference Systems (AHRS).

DATES: The meeting will be held on February 3-5, 2009, from 9 a.m. to 5 p.m.

ADDRESSES: The meeting will be held at 1828 L Street, NW., Suite 805, Washington, DC 20036.

FOR FURTHER INFORMATION CONTACT: RTCA Secretariat, 1828 L Street, NW, Suite 805, Washington, DC, 20036-5133; telephone (202) 833-9339; fax (202) 833-9434; Web site http://www.rtca.org.

SUPPLEMENTARY INFORMATION: Pursuant to section 10(a)(2) of the Federal Advisory Committee Act (Pub L. 92-463, 5 U.S.C., Appendix 2), notice is hereby given for a Special Committee 219 meeting. The agenda will include:

• Opening Session (Welcome, Introductions and Administrative Remarks).

• Agenda Overview.

• Review/Approve first meeting summary, RTCA Paper No. 249-08/SC219-002 October 8, 2008.

• Review group document preparation options, and adopt a method if appropriate.

• Working Group (WG) reports;

• WG-1.

• WG-2.

• WG-3.

• New assignments.

• Working group sessions.

• Closing Session (Any Other Business, Establish Agenda, Date and Place of Next Meeting, Review minutes from the current meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 7, 2009.
Francisco Estrada C.,
RTCA Advisory Committee.

[FR Doc. E9-491 Filed 1-12-09; 8:45 am]

BILLING CODE 4910-13-P